NATIONAL AERONAUTICS AND SPACE ADMINISTRATION

[Notice 04-008]

NASA Advisory Council, Earth Systems Science and Applications Advisory Committee; Meeting

AGENCY: National Aeronautics and Space Administration (NASA).

ACTION: Notice of meeting.

SUMMARY: In accordance with the Federal Advisory Committee Act, Public Law 92-463, as amended, the National Aeronautics and Space Administration announces a meeting of the NASA Advisory Council (NAC), Earth Systems Science and Applications Advisory Committee (ESSAAC).

DATES: Wednesday, February 18, 2004, 8:30 a.m. to 5 p.m., and Thursday, February 19, 2004, 8:30 a.m. to 5 p.m.

ADDRESSES: Scripps Institution of Oceanography (SIO), 4500 Hubbs Hall, La Jolla, California 92093.

FOR FURTHER INFORMATION CONTACT: Mr. Gregory Williams, Code Y, National Aeronautics and Space Administration, Washington, DC 20546, 202/358-0241.

SUPPLEMENTARY INFORMATION: The agenda for the meeting is as follows:

• Welcome and Introductions

• Chairman's Remarks

• Earth Science Enterprise (ESE) Overview

• Technology Subcommittee Report

• What Makes a Modern Grid?

• Overview of NASA's Information Infrastructure

• ESE Data & Information Management Plan

• ESE FY03 Performance Discussion

• Progress on Other ESE Plans

• Committee Deliberations

It is imperative that the meeting be held on these dates to accommodate the scheduling priorities of key participants. Visitors will be requested to sign a visitor's register.

Michael F. O'Brien,
Assistant Administrator for External Relations, National Aeronautics and Space Administration.

[FR Doc. 04-1572 Filed 1-23-04; 8:45 am]

BILLING CODE 7510-01-P